DEPARTMENT OF TRANSPORTATION

Federal Aviation Administration

Cargo Fire Safety website Updates; Notice of Meeting

AGENCY: Federal Aviation Administration (FAA), Department of Transportation (DOT).

ACTION: Notice of meeting.

SUMMARY: The Federal Aviation Administration (FAA) is announcing a notice to form a task group to make input to any future edits to the Cargo Fire Safety website at the upcoming meetings of the International Aircraft Systems Fire Protection (IASFP) Forum (83 FR39149). Topics are related to cargo fire safety and include website architecture, hazards, operational risks, and mitigations. This notification provides details of where to find the date and location for the upcoming meeting.

DATES: The kickoff meeting will be held on Tuesday, October 18, 2022. Cargo Safety website Task Group: 12 p.m.—1:30 p.m.; Point of Contact: Dhaval Dadia.

ADDRESSES: The kickoff task group meeting will be held at the Tenth Triennial International Fire & Cabin Safety Research Conference this year followed with meetings twice a year at the IASFP Forum meetings.

The meeting dates and locations are determined based upon the availability of host organizations to provide meeting space. The cargo safety task group website (www.fire.tc.faa.gov/cargosafety/taskgroup) contains all information for upcoming meetings and meeting registration. The meetings are open to the public but due to limited capacity, registration is mandatory.

FOR FURTHER INFORMATION CONTACT: April Horner, Meeting Coordinator, William J. Hughes Technical Center, Building 287, Atlantic City International Airport, NJ 08405, telephone: (609) 485-4471, email: april.ctr.horner@faa.gov.

SUPPLEMENTARY INFORMATION:

Background

Advisory Circular (AC) 120-121: “Safety Risk Management Involving Items in Aircraft Cargo Compartments” provides guidance in performing a safety risk assessment, as part of Safety Risk Management (SRM), associated with the transport of various types of items in the aircraft cargo compartment and the value of considering the inherent hazardous properties of these items. This document is intended only to provide clarity to the public regarding existing requirements under the law or agency policies. Further details of the AC are available at https://www.faa.gov/regulations_policies/advisory_circulars/index.cfm/go/document.information/documentID/1040260.

A cargo fire safety website provides research driven information to the public regarding the hazards, operational risks, and mitigation strategies of the various types of hazardous materials shipped on aircraft. The website is referenced in Advisory Circular (AC) 120-121. The website is available at https://www.fire.tc.faa.gov/cargosafety.

The website was created to provide research driven information to the public, mainly shipping operations and aircraft operators, in order to make informed decisions while transporting hazardous materials. Aircraft operators that transport hazardous materials may have to develop safety risk assessments as part of Safety Risk Management (SRM) and can use the information on the website to make informed decisions.

It is the desire of the FAA to organize the task group in a way that is most productive and efficient to the various stakeholders interested in participating and giving feedback on the various elements of the website. The main areas that FAA is looking to receive comment and feedback on are: Architecture, Mitigations, Hazards, and Operational Risks.

Before any edits are made to the website, the task group will provide data supporting the modifications, and the FAA will review and accept the data. The task group will be looking for comments to add to the information available on the website.

Detailed agenda information will be posted on the cargo safety task group website address listed in the SUMMARY section at least one week in advance of the meeting.

Attendance at the Upcoming Meetings

Interested persons may attend the meeting. Because seating is limited, if you plan to attend please register in advance on the FAA Fire Safety Branch website (https://www.fire.tc.faa.gov) so that adequate meeting space may be made to accommodate attendees.

Record of the Meeting

A meeting summary for the task group meetings will be posted on the FAA Fire Safety Branch website (www.fire.tc.faa.gov/cargosafety/taskgroup) after the conclusion of the meeting.

Dhaval Dadia,
Research Engineer, Fire Safety Branch, ANG-E211.

[FR Doc. 2022-21189 Filed 9-29-22; 8:45 am]

BILLING CODE P